DEPARTMENT OF COMMERCE

National Oceanic and Atmospheric Administration

[I.D. 012506B]

Marine Fisheries Advisory Committee; Public Meetings

AGENCY: National Marine Fisheries Service (NMFS), National Oceanic and Atmospheric Administration (NOAA), Commerce.

ACTION: Notice of open public meetings.

SUMMARY: Notice is hereby given of meetings of the Marine Fisheries Advisory Committee (MAFAC). This will be the first of two meetings held in fiscal year 2006 to review and advise NOAA on management policies for living marine resources. Agenda topics are provided under the SUPPLEMENTARY INFORMATION section of this notice. All sessions will be open to the public.

DATES: The meetings will be held February 14-15, 2006, from 9 a.m. to 5 p.m. and February 16, 2006, from 9 a.m. to 12 p.m.

ADDRESSES: The meetings will be held at the International Game Fish Association, 300 Gulf Stream Way, Dania Beach, FL 33004.

Requests for special accommodations may be directed to MAFAC, Office of Constituent Services, National Marine Fisheries Service, 1315 East-West Highway #9508, Silver Spring, MD 20910.

FOR FURTHER INFORMATION CONTACT: Laurel Bryant, MAFAC Executive Director; telephone: (301) 713-2379 x171.

SUPPLEMENTARY INFORMATION: As required by section 10(a)(2) of the Federal Advisory Committee Act, 5 U.S.C. App. 2, notice is hereby given of meetings of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, state, consumer, academic, tribal, governmental and other national interests.

Matters to be Considered

February 14, 2006

The meeting will begin with remarks from Roy Crabtree, Southeast Regional Administrator for NMFS, and William T. Hogarth, Assistant Administrator for Fisheries. Next, the committee will receive an update on offshore aquaculture. There will also be a discussion of NMFS' role in seafood health and safety issues. The afternoon will include updates on international affairs and hurricane impacts and recovery in the Gulf of Mexico.

February 15, 2006

In the morning, the committee will be given an update on the status of litigation and briefed on Magnuson-Stevens Fishery Conservation and Management Act reauthorization. There will also be a discussion of overfishing. In the afternoon, the committee will discuss recreational fishing issues. Discussions on recreational fishing and seafood health may continue in two separate breakout groups.

February 16, 2006

The committee will reconvene to receive and discuss any breakout group reports. The rest of the morning will be devoted to administrative issues, such as the assignment of new members to subcommittees, determining the dates and locations of future meetings, and identifying follow-up assignments.

Special Accommodations

These meetings are physically accessible to people with disabilities. Requests for sign language interpretation or other auxiliary aids should be directed to Laurel Bryant, MAFAC Executive Director; telephone: (301) 713-2379 x171.

Dated: January 27, 2006.
Gordon J. Helm,
Acting Director, Office of Constituent Services, National Marine Fisheries Service.

[FR Doc. E6-1336 Filed 1-31-06; 8:45 am]

BILLING CODE 3510-22-S